DEPARTMENT OF THE INTERIOR

National Park Service

[NPS-WASO-NRNHL-DTS#-37233; PPWOCRADI0, PCU00RP14.R50000]

National Register of Historic Places; Notification of Pending Nominations and Related Actions

AGENCY: National Park Service, Interior.

ACTION: Notice.

SUMMARY: The National Park Service is soliciting electronic comments on the significance of properties nominated before January 6, 2024, for listing or related actions in the National Register of Historic Places.

DATES: Comments should be submitted electronically by February 2, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before January 6,2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

COLORADO

Park County

Victor Williams Homestead-Sprague Sand Creek Ranch, 25700 Count Road 77, Lake George vicinity, SG100009925

MARYLAND

Frederick County

Hayland, 15849 Mechanicstown Road, Emmitsburg, SG100009924

MISSISSIPPI

Pike County

Burglund Heights, 220 Maddock, 222 Maddock, 302 Maddock, 304 Maddock, 118 West Alley, 112 West Alley, 211 St. Augustine, 213 St. Augustine, 303 St. Augustine, 305 St. Augustine, 111 East Alley, and 117 East Alley, Macomb, SG100009940

NEW YORK

Kings County

Talmud Torah Atereth Israel, 85 Fountain Avenue, Brooklyn, SG100009929

William Ulmer Brewery Complex, 71-83 Beaver Street, 31-47 Belvidere Street, 26-28 Locust Street, Brooklyn, SG100009930

Monroe County

Mount Hope-Highland Historic District (Boundary Increase), Portions of Mt. Hope, Highland, South, Reservoir, and Mt. Vernon Avenues; Castle Park, Bellevue Drive, Alpine Street, and Furman Crescent, Rochester, BC100009931

New York County

Building at 287 Broadway, 287 Broadway, New York, SG100009933

Central Harlem North Historic District, Generally West 135th Street—West 144th Street, Adam Clayton Powell Jr. Boulevard, Lenox Avenue, New York, SG100009934

Rensselaer County

Corliss Park Historic District, 7th and 8th Avenues, north of Northern Drive, Troy, SG100009935

Griswold Heights Historic District, Madison Avenue, Project Street, Project Road, and Campbell Avenue, Troy, SG100009936

OHIO

Montgomery County

Dayton Country Club, 555 Kramer Road, Dayton, SG100009927

Muskingum County

Downtown Zanesville Historic District, Roughly bounded by 3rd, Market, 7th, and South Streets, Zanesville, SG100009926

WISCONSIN

Iowa County

Spring Green Restaurant, 5607 County Highway C, Wyoming, SG100009939

A request to move has been received for the following resource(s):

ARIZONA

Maricopa County

Elizabeth Seargeant-Emery Oldaker House, (Roosevelt Neighborhood MRA), 649 N 3rd Ave., Phoenix, MV83003472

Additional documentation has been received for the following resource(s):

ILLINOIS

Kane County

Elgin Downtown Commercial District (Additional Documentation), Roughly bound by Division, Villa Center, Fulton & Grove, Elgin, AD14001067

NEW YORK

Monroe County

Mount. Hope-Highland Historic District (Additional Documentation), Bounded roughly by the Clarissa St. Bridge, Genesee River, Grove and Mt. Hope Aves., plus, Rochester, AD74001261

Authority: Section 60.13 of 36 CFR part 60.

Sherry A. Frear,
Chief, National Register of Historic Places/National Historic Landmarks Program.

[FR Doc. 2024-00876 Filed 1-17-24; 8:45 am]

BILLING CODE 4312-52-P